DEPARTMENT OF AGRICULTURE

Agricultural Marketing Service

[TM-00-02]

Notice of Meeting of the National Organic Standards Board

AGENCY: Agricultural Marketing Service, USDA.

ACTION: Notice.

SUMMARY: In accordance with the Federal Advisory Committee Act, as amended, the Agricultural Marketing Service (AMS) announces a forthcoming meeting of the National Organic Standards Board (NOSB).

DATES: March 21, 2000, from 9 a.m. to 5 p.m. and March 22, 2000, from 9 a.m. to 5 p.m. (Pacific Standard Time each day).

PLACE: Embassy Suites Hotel, 7762 Beach Boulevard, Buena Park, California 90620, Phone (714) 739-5600.

FOR FURTHER INFORMATION CONTACT: Keith Jones, Program Manager, Room 2945 South Building, U.S. Department of Agriculture, AMS, Transportation and Marketing, National Organic Program, P.O. Box 96456, Washington, D.C. 20090-6456, Phone (202) 720-3252.

SUPPLEMENTARY INFORMATION: Section 2119 (7 U.S.C. 6518) of the Organic Foods Production Act of 1990 (OFPA), as amended (7 U.S.C. Section 6501 et seq.) requires the establishment of the NOSB. The purpose of the NOSB is to assist in the development of standards for substances to be used in organic production and to advise the Secretary on any other aspects of the implementation of OFPA. The NOSB met for the first time in Washington, D.C., in March 1992 and currently has six committees working on various aspects of the program. The committees are: Crops Standards; Processing; Labeling and Packaging; Livestock Standards; Accreditation; Materials; and, International Issues.

In August 1994, the NOSB provided its initial recommendations for the National Organic Program (NOP) to the Secretary of Agriculture. Since that time, the NOSB has submitted 30 addenda to its recommendations and reviewed more than 170 substances for inclusion on the National List of Allowed and Prohibited Substances. The last meeting of the NOSB was held on October 25-29, 1999, in Washington, D.C.

The U. S. Department of Agriculture (USDA) published its NOP proposed rule in the Federal Register on December 16, 1997 (62 FR 65849). A notice extending the comment period on the proposed rule was published in the Federal Register on February 9, 1998 (63 FR 6498-6499). The comment period was extended until April 30, 1998. On October 28, 1998, three issue papers for which public comment was requested by USDA were published in the Federal Register (63 FR 57624-57626). These papers addressed certain issues raised during the comment period. The issue papers were: Issue Paper 1—Livestock Confinement in Organic Production Systems; Issue Paper 2—The Use of Antibiotics and Parasiticides in Organic Livestock Production; and, Issue Paper 3—Termination of Certification by Private Certifiers. The comment period for the issue papers closed December 14, 1998.

Purpose and Agenda

The principal purposes of this meeting are to provide an opportunity for the NOSB to receive committee reports from its standing and ad hoc committees to review ethylene for possible inclusion on the National List for use to induce flowering in pineapples, and to receive briefings on the recently published re-proposed NOP regulation. Copies of the NOSB final meeting agenda can be requested from Mrs. Toni Strother, Room 2510 South Building, U.S. Department of Agriculture, AMS, Transportation and Marketing, NOP, P.O. Box 96456, Washington, D.C. 20090-6456, by phone at (202) 720-3252 or by accessing the NOP website at http://www.ams.usda.gov/nop after March 8, 2000.

Type of Meeting

All meetings will be open to the public. The NOSB has scheduled time for public input on Wednesday, March 22, 2000, from 1 p.m. until 5 p.m. at the Embassy Suites Hotel, 7762 Beach Boulevard, Buena Park, California 90620. Individuals and organizations wishing to make an oral presentation at the meeting should forward the request to Mrs. Strother at the above address or by FAX to (202) 205-7808 by close of business March 17, 2000. While persons wishing to make a presentation may sign up at the door, advance registration will ensure an opportunity to speak during the allotted time period and will help the NOSB to better manage the meeting and accomplish its agenda. Individuals or organizations will be given approximately 5 minutes to present their views. All persons making an oral presentation are requested to provide their comments in writing, if possible. Written submissions may supplement the oral presentation with additional material. Attendees who do not wish to make an oral presentation are invited to submit written comments to the NOSB at the meeting or to Mrs. Strother after the meeting at the above address. All persons submitting written comments should provide 25 copies.

Dated: February 28, 2000.
Eileen S. Stommes,
Deputy Administrator, Transportation and Marketing.

[FR Doc. 00-5273 Filed 3-3-00; 8:45 am]

BILLING CODE 3410-02-P